DEPARTMENT OF ENERGY

Federal Energy Regulatory Commission

[Project No. 14634-003]

New England Hydropower Company, LLC; Notice of Application Tendered for Filing With the Commission and Soliciting Additional Study Requests and Establishing Procedural Schedule for Relicensing and a Deadline for Submission of Final Amendments

Take notice that the following hydroelectric application has been filed with the Commission and is available for public inspection.

a. Type of Application: Minor License.

b. Project No.: 14634-003.

c. Date filed: November 2, 2021.

d. Applicant: New England Hydropower Company, LLC (NEHC).

e. Name of Project: Ashton Dam Hydroelectric Project (project).

f. Location: On the Blackstone River in Providence County, Rhode Island. No federal or tribal lands would be occupied by project works or located within the project boundary.

g. Filed Pursuant to: Federal Power Act 16 U.S.C. 791(a)-825(r).

h. Applicant Contact: Mr. Michael Kerr, New England Hydropower Company, LLC, 100 Cummings Center, Suite 451C, Beverly, MA 01915; Phone at (978) 360-2547, or email at michael@nehydropower.com.

i. FERC Contact: John Baummer at (202) 502-6837, or john.baummer@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: January 1, 2022.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. All filings must clearly identify the project name and docket number on the first page: Ashton Dam Hydroelectric Project (P-14634-003).

m. The application is not ready for environmental analysis at this time.

n. The proposed Ashton Dam Hydroelectric Project would consist of: (1) An existing stone masonry gravity dam that includes: (a) A western abutment section; (b) a 203-foot-long western spillway section with a crest elevation of 73.6 feet North American Vertical Datum of 1988 (NAVD 88); (c) an 18-foot-long stone masonry pier that includes two 4-foot-wide, 8-foot-high existing openings, to be modified to include a new low-level steel bulkhead panel; (d) an existing 54-foot-long eastern spillway section that would be replaced with a new 54-foot-long concrete section that includes: (i) Two 19.7-foot-wide, 18.1-foot-high log sluice gates with crest elevations of 82.1 NAVD 88; (ii) two 19.7-foot-wide, horizontal steel trashracks sloped at 9 degrees to inflow with 0.5-inch clear bar spacing; and (iii) two 19.7-foot-wide, 15.4-foot-high openings; and (e) an eastern abutment section; (2) an existing impoundment with a surface area of 11.73 acres at an elevation of 73.6 feet NAVD 88; (3) four submersible StreamDiver Kaplan turbine-generator units (three 189-kilowatt (kW) and one 102-kW generators) located in the openings of the new concrete structure, with a total installed capacity of 669 kW; (4) four new 8.1-foot-wide, 3.8-foot-high hinged crest gates with crest elevations of 73.6 feet NAVD 88, installed on top of the new concrete structure; (5) a new 11.5-foot-long, 44.3-foot-wide concrete tailrace and an approximately 30- to 45-foot-long, 44.3-foot-wide concrete apron; (6) a new 20-foot-long, 8-foot-wide control building located on the eastern shoreline of the Blackstone River; (7) a new step-up transformer and a 1,370-foot-long underground transmission line connecting the project to the distribution system owned by the Narragansett Electric Company; (8) a new access road and parking area; and (9) appurtenant facilities.

NEHC proposes to: (1) Operate the project in a run-of-river mode with an estimated annual energy production of approximately 2,870 megawatt-hours; (2) release a continuous minimum flow of 100 cubic feet per second or inflow whichever is less, over the western spillway; (3) install a downstream fish passage facility between the crest gates on top of the new concrete structure; and (4) install an upstream eel passage facility at the project dam.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-14634). For assistance, contact FERC at FERCOnlineSupport@ferc.gov or call toll-free, (866) 208-3676 or (202) 502-8659 (TTY).

You may also register online at https://ferconline.ferc.gov/FERCOnline.aspx to be notified via email of new filings and issuances related to this or other pending projects. For assistance, contact FERC Online Support.

p. Procedural schedule: The application will be processed according to the following preliminary schedule. Revisions to the schedule will be made as appropriate.

Issue Deficiency Letter (if necessary)—January 2022

Request Additional Information—January 2022

Issue Scoping Document 1 for comments—March 2022

Request Additional Information (if necessary)—April 2022

Issue Acceptance Letter—April 2022

Issue Scoping Document 2—June 2022

Issue Notice of Ready for Environmental Analysis—June 2022

q. Final amendments to the application must be filed with the Commission no later than 30 days from the issuance date of the notice of ready for environmental analysis.

Dated: November 16, 2021.
Debbie-Anne A. Reese,
Deputy Secretary.

[FR Doc. 2021-25404 Filed 11-19-21; 8:45 am]

BILLING CODE 6717-01-P